OFFICE OF PERSONNEL MANAGEMENT

Excepted Service

AGENCY: Office of Personnel Management (OPM).

ACTION: Notice.

SUMMARY: This notice identifies Schedule A, B, and C appointing authorities applicable to a single agency that were established or revoked from July 1, 2021 to July 31, 2021.

FOR FURTHER INFORMATION CONTACT: Julia Alford, Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during July 2021.

Schedule B

No Schedule B Authorities to report during July 2021.

Schedule C

The following Schedule C appointing authorities were approved during July 2021.

Agency name | Organization name | Position title | Authorization No. | Effective date
DEPARTMENT OF AGRICULTURE | Office of the Under Secretary for Food Safety | Confidential Assistant | DA210125 | 07/08/2021
| Office of the Assistant Secretary for Congressional Relations | Deputy Director for Intergovernmental Affairs | DA210129 | 07/08/2021
| Office of the Secretary | Confidential Assistant | DA210131 | 07/22/2021
| Office of the Under Secretary for Trade and Foreign Agricultural Affairs | Chief of Staff | DA210127 | 07/08/2021
| Rural Utilities Service | Chief of Staff | DA210132 | 07/22/2021
DEPARTMENT OF COMMERCE | Office of the Assistant Secretary for Economic Development | Senior Advisor | DC210163 | 07/16/2021
| National Telecommunications and Information Administration | Chief of Staff | DC210156 | 07/22/2021
DEPARTMENT OF DEFENSE | Office of the Secretary of Defense | Advance Officer | DD210246 | 07/06/2021
| Office of the Under Secretary of Defense (Comptroller) | Special Assistant | DD210248 | 07/29/2021
| Office of the Under Secretary of Defense (Personnel and Readiness) | Special Assistant | DD210247 | 07/20/2021
| Office of the Under Secretary of Defense (Policy) | Special Assistant | DD210252 | 07/29/2021
| Office of the Under Secretary of Defense (Research and Engineering) | Special Assistant | DD210245 | 07/06/2021
DEPARTMENT OF THE ARMY | Office of the Secretary | Special Assistant to the Secretary of the Army for Diversity, Equity and Inclusion | DW210019 | 07/08/2021
DEPARTMENT OF THE NAVY | Office of the Assistant Secretary of Navy (Energy, Installations and Environment) | Senior Advisor to the Secretary of the Navy (Climate) | DN210025 | 07/19/2021
DEPARTMENT OF EDUCATION | Office of Elementary and Secondary Education | Confidential Assistant | DB210115 | 07/26/2021
| Office of Legislation and Congressional Affairs | Confidential Assistant | DB210117 | 07/26/2021
| Office of Postsecondary Education | Confidential Assistant | DB210118 | 07/26/2021
| Office of the Secretary | Special Assistant Confidential Assistant | DB210119 DB210116 | 07/26/2021 07/31/2021
DEPARTMENT OF ENERGY | Office of the Assistant Secretary for Nuclear Energy | Special Assistant | DE210158 | 07/02/2021
| Office of Economic Impact and Diversity | Special Assistant | DE210163 | 07/09/2021
| Office of Management | Special Assistant | DE210166 | 07/09/2021
| Office of Public Affairs | Digital Content Manager Deputy Press Secretary | DE210162 DE210170 | 07/09/2021 07/17/2021
| Office of the Deputy Secretary | Chief of Staff | DE210161 | 07/02/2021
EQUAL EMPLOYMENT OPPORTUNITY COMMISSION | Office of the Chair Equal Employment Opportunity Commission | Policy Analyst Executive Staff Assistant | EE210010 EE210011 | 07/19/2021 07/27/2021
GENERAL SERVICES ADMINISTRATION | Office of the Administrator Office of Strategic Communication | Executive Assistant Deputy Associate Administrator for Media Affairs | GS210037 GS210038 | 07/12/2021 07/12/2021
DEPARTMENT OF HEALTH AND HUMAN SERVICES | Office of the Assistant Secretary for Preparedness and Response | Senior Advisor | DH210212 | 07/13/2021
| Office of the Secretary | Scheduler | DH210222 | 07/22/2021
| Office of the Deputy Secretary | Special Assistant | DH210226 | 07/29/2021
| Office of Intergovernmental and External Affairs | Special Assistant | DH210227 | 07/29/2021
DEPARTMENT OF HOMELAND SECURITY | Federal Emergency Management Agency | Director of Public Affairs Director of Legislative Affairs Director, Center for Faith-based and Neighborhood Partnerships | DM210397 DM210402 DM210404 | 07/02/2021 07/21/2021 07/21/2021
| Office of Management Directorate | Advisor | DM210407 | 07/26/2021
| Office of Legislative Affairs | Chief of Staff | DM210399 | 07/12/2021
| Transportation Security Administration | Senior Counselor | DM210398 | 07/23/2021
DEPARTMENT OF HOUSING AND URBAN DEVELOPMENT | Office of Housing Office of Policy Development and Research | Senior Advisor Special Assistant | DU210089 DU210088 | 07/09/2021 07/15/2021
| Office of Public Affairs | Deputy Press Secretary | DU210087 | 07/09/2021
| Office of the Secretary | Senior Advisor—Puerto Rico Director of Domestic Violence | DU210091 DU210090 | 07/09/2021 07/22/2021
DEPARTMENT OF THE INTERIOR | Secretary's Immediate Office | Deputy White House Liaison | DI210124 | 07/01/2021
| Office of the Assistant Secretary—Water and Science | Special Assistant | DI210126 | 07/01/2021
DEPARTMENT OF JUSTICE | Office of Civil Rights Division | Special Assistant Counsel | DJ210104 DJ210154 | 07/02/2021 07/30/2021
| Office of Public Affairs | Press Assistant | DJ210151 | 07/15/2021
| Office of the Deputy Attorney General | Counsel Confidential Assistant | DJ210150 DJ210149 | 07/16/2021 07/28/2021
| Office of the Legal Counsel | Counsel | DJ210157 | 07/28/2021
DEPARTMENT OF LABOR | Office of Congressional and Intergovernmental Affairs | Senior Legislative Officer | DL210107 | 07/08/2021
| Office of the Assistant Secretary for Policy | Policy Advisor | DL210103 | 07/07/2021
| Office of Wage and Hour Division | Policy Advisor (2) | DL210102 DL210106 | 07/07/2021 07/22/2021
| Office of Women's Bureau | Senior Advisor | DL210104 | 07/08/2021
NATIONAL AERONAUTICS AND SPACE ADMINISTRATION | Office of Legislative and Intergovernmental Affairs | Special Assistant | NN210049 | 07/12/2021
| Office of Communications | Speechwriter | NN210050 | 07/12/2021
OFFICE OF PERSONNEL MANAGEMENT | Office of Congressional, Legislative, and Intergovernmental Affairs | Senior Advisor | PM210065 | 07/01/2021
| Office of Communications | Chief Speechwriter and Senior Advisor for Communications | PM210067 | 07/16/2021
| Office of the Director | Executive Assistant | PM210061 | 07/21/2021
| Presidents Commission on White House Fellowships | Special Assistant Associate Director Deputy Director | PM210063 PM210066 PM210069 | 07/16/2021 07/19/2021 07/23/2021
OFFICE OF SCIENCE AND TECHNOLOGY POLICY | Office of Science and Technology Policy | Special Assistant (2) | TS210006 TS210007 | 07/08/2021 07/08/2021
SECURITIES AND EXCHANGE COMMISSION | Office of Commissioner Peirce Office of the Chairman | Confidential Assistant Senior Officer | SE210010 SE210023 | 07/21/2021 07/21/2021
| Office of Public Affairs | Communications Specialist | SE210024 | 07/21/2021
| Office of Legislative and Intergovernmental Affairs | Legislative Affairs Specialist | SE210025 | 07/21/2021
SMALL BUSINESS ADMINISTRATION | Office of Capital Access | Deputy Associate Administrator for Capital Access (2) | SB210049 SB210051 | 07/22/2021 07/29/2021
| Office of Communications and Public Liaison | Press Secretary | SB210045 | 07/09/2021
| Office of Entrepreneurial Development | Senior Advisor | SB210047 | 07/16/2021
| Office of the Administrator | Counselor to the Administrator | SB210050 | 07/23/2021
DEPARTMENT OF STATE | Bureau of Educational and Cultural Affairs | Special Assistant Senior Advisor | DS210254 DS210261 | 07/01/2021 07/31/2021
| Office of Global Women's Issues | Staff Assistant | DS210260 | 07/31/2021
| Office of the Chief of Protocol | Senior Protocol Officer (Gifts) | DS210252 | 07/01/2021
|  | Senior Protocol Officer (Major Events) | DS210253 | 07/01/2021
| Office of the Secretary | Senior Special Assistant Chief of Staff | DS210242 DS210258 | 07/19/2021 07/29/2021
| Office of the United States Global Aids Coordinator | Senior Advisor | DS210259 | 07/29/2021
| Office of the Under Secretary for Civilian Security, Democracy, and Human Rights | Senior Advisor | DS210257 | 07/09/2021
DEPARTMENT OF TRANSPORTATION | Office of the Assistant Secretary for Research and Technology | Senior Advisor | DT210087 | 07/12/2021
DEPARTMENT OF THE TREASURY | Office of the Assistant Secretary (Public Affairs) | Press Assistant Spokesperson | DY210089 DY210112 | 07/14/2021 07/15/2021
|  | Senior Advisor (Community Engagement) | DY210087 | 07/19/2021
| Office of the General Counsel | Policy Advisor | DY210111 | 07/12/2021
| Secretary of the Treasury | Deputy Executive Secretary | DY210110 | 07/15/2021
|  | Senior Advisor (2) | DY210091 DY210099 | 07/19/2021 07/14/2021

The following Schedule C appointing authorities were revoked during July 2021.

Agency name | Organization name | Position Title | Request No. | Vacate date
COMMISSION ON CIVIL RIGHTS | Office of the Commissioner | Special Assistant | CC140003 | 07/30/2021
DEPARTMENT OF HEALTH AND HUMAN SERVICES | Office of the Secretary | Deputy Chief of Staff, Covid Special Assistant (2) | DH210075 DH210091 DH210092 | 07/31/2021 07/03/2021 07/03/2021
DEPARTMENT OF STATE | Office of the Secretary | Senior Special Assistant | DS210061 | 07/31/2021
FEDERAL HOUSING FINANCE AGENCY | Federal Housing Finance Agency | Senior Advisor for Policy and Regulation | HA210001 | 07/09/2021
| Office of the Director | Assistant Chief of Staff | HA200001 | 07/09/2021
|  | Director of External Relations | HA190001 | 07/09/2021
|  | Director of Legislative Affairs | HA190004 | 07/09/2021
|  | Senior Congressional Affairs Advisor | HA200003 | 07/09/2021
|  | Senior Policy Advisor | HA190002 | 07/09/2021

Authority: 5 U.S.C. 3301 and 3302; E.O. 10577, 3 CFR, 1954-1958 Comp., p. 218.

Office of Personnel Management.
Alexys Stanley,
Regulatory Affairs Analyst.

[FR Doc. 2022-02643 Filed 2-8-22; 8:45 am]

BILLING CODE 6325-39-P